ENVIRONMENTAL PROTECTION AGENCY

[OPP2004-0338: FRL-7683-7]

Cancellation of Pesticides for Non-payment of Year 2004 Registration Maintenance Fees

AGENCY: Environmental Protection Agency (EPA).

ACTION: Notice.

SUMMARY: Since the amendments of October, 1988, the Federal Insecticide, Fungicide, and Rodenticide Act (FIFRA) has required payment of an annual maintenance fee to keep pesticide registrations in effect. The fee due last January 15 has gone unpaid for 1,177 registrations. Section 4(i)(5)(G) of FIFRA provides that the Administrator may cancel these registrations by order and without a hearing; orders to cancel all 1,177 of these registrations have been issued within the past few days.

FOR FURTHER INFORMATION CONTACT: For further information on the maintenance fee program in general, contact by mail: John Jamula, Office of Pesticide Programs (7504C), Environmental Protection Agency, 1200 Pennsylvania Avenue NW, Washington, DC 20460; telephone number: (703) 305-6426; e-mail address: jamula.john@epa.gov

SUPPLEMENTARY INFORMATION:

I. Important Information

A. Does this apply to me?

You may be potentially affected by this notice if you are an EPA registrant with any approved product registration(s). Although this action may be of particular interest to persons who produce or use pesticides, the Agency has not attempted to describe all the specific entities that may be affected by this action. If you have any questions regarding the information in this notice, consult the person listed in the FOR FURTHER INFORMATION CONTACT section.

B. How can I get additional information or copies of support documents

1. Electronically. You may obtain electronic copies of this document and various other related documents that might be available from the EPA Internet Home Page at http://www.epa.gov/fedrgstr/.

The Agency has established an official record record for this Action under docket control number OPP-2004-0338. The official record consists of the documents specifically referenced in this action, any public comments received during an applicable comment period, and other information related to this action, including any information claimed as Confidential Business Information (CBI). The official record includes the documents that are physically located in the docket, as well as the documents that are referenced in those documents. The public version of the official record does not include any information that is claimed as CBI. The public version of the official record, which includes printed paper versions of any electronic comments submitted during an applicable comment period, is available for inspection in the Public Information and Records Integrity Branch (PIRIB), Room 119, Crystal Mall #2, 1921 Jefferson Davis Highway, Arlington, VA, from 8:30 a.m. to 4 p.m., Monday through Friday, excluding legal holidays. The PIRIB telephone number is (703) 305-5805.

II. Introduction

Section 4(i)(5) of FIFRA as amended in October, 1988 (Public Law 100-532), December, 1991 (Public Law 102-237), and again in August, 1996 (Public Law 104-170), requires that all pesticide registrants pay an annual registration maintenance fee, due by January 15 of each year, to keep their registrations in effect. This requirement applies to all registrations granted under section 3 as well as those granted under section 24(c) to meet special local needs. Registrations for which the fee is not paid are subject to cancellation by order and without a hearing.

The Food, Agriculture, Conservation, and Trade Act Amendments of 1991, Public Law 102-237, amended FIFRA to allow the Administrator to reduce or waive maintenance fees for minor agricultural use pesticides when she determines that the fee would be likely to cause significant impact on the availability of the pesticide for the use. The Agency has waived the fee for 149 minor agricultural use registrations at the request of the registrants.

In fiscal year 2004, maintenance fees were collected in two billing cycles. During the first cycle, the Agency was operating under a continuing resolution which authorized the Agency to collect $21.5 million. In late December 2003, all holders of either section 3 registrations or section 24(c) registrations were sent lists of their active registrations, along with forms and instructions for responding. They were asked to identify which of their registrations they wished to maintain in effect, and to calculate and remit the appropriate maintenance fees. Recipients of these initial bills were also notified that a second final bill would also be issued if the Agency's Appropriations Bill authorized collection of more than $21.5 million. Most responses were received by the statutory deadline of January 15. A notice of intent to cancel was sent in mid-February to companies who did not respond and to companies who responded, but paid for less than all of their registrations.

The Pesticide Registration Improvement Act (PRIA) was passed by Congress in January, 2004. PRIA became effective in March, 2004 and authorized the Agency to collect $26 million in maintenance fees in fiscal year 2004. To collect the additional $4.5 million, the Agency initiated a second billing in early May. Final payments were due on June 15, 2004.

Since mailing the notices, EPA has maintained a toll-free inquiry number through which the questions of affected registrants have been answered.

Maintenance fees have been paid for about 15,238 section 3 registrations, or about 94 percent of the registrations on file in December. Fees have been paid for about 2,339 section 24(c) registrations, or about 86 percent of the total on file in December. Cancellations for non-payment of the maintenance fee affect about 883 section 3 registrations and about 294 section 24(c) registrations.

The cancellation orders generally permit registrants to continue to sell and distribute existing stocks of the canceled products until January 15, 2005, one year after the date on which the fee was due. Existing stocks already in the hands of dealers or users, however, can generally be distributed, sold or used legally until they are exhausted. Existing stocks are defined as those stocks of a registered pesticide product which are currently in the U.S. and which have been packaged, labeled and released for shipment prior to the effective date of the action.

The exceptions to these general rules are cases where more stringent restrictions on sale, distribution, or use of the products have already been imposed, through Special Reviews or other Agency actions. These general provisions for disposition of stocks should serve in most cases to cushion the impact of these cancellations while the market adjusts.

III. Listing of Registrations Canceled for Non-payment

Table 1 below lists all of the Section 24(c)registrations, and Table 2 Lists all of the Section 3 registrations which were canceled for non-payment of the 2004 maintenance fee. These registrations have been canceled by order and without hearing. Cancellation orders were sent to affected registrants via certified mail in the past several days. The Agency is unlikely to rescind cancellation of any particular registration unless the cancellation resulted from Agency error.

Table 1.—Section 24(c) Registrations Canceled for Non-Payment of Maintenance Fee
SLN no. | Product Name
051936 AL-02-0008 | Acephate 75SP
004581 AL-81-0009 | Hydrothol 191
000100 AL-95-0005 | Reflex 2lC Herbicide
000352 AL-97-0004 | Dupont Krenite S Brush Control Agent
000100 AL-98-0003 | Tilt Fungicide
000100 AL-99-0004 | Warrior T Insecticide
001812 AL-99-0005 | Atrapa UV
000352 AR-03-0005 | Dupont Krenite S Brush Control Agent
000279 AR-03-0007 | Aim EC
003125 AR-81-0044 | Monitor 4
000100 AR-95-0011 | Reflex 2lC Herbicide
000100 AR-96-0008 | Fusilade DX Herbicide
000352 AR-98-0005 | Dupont Krenite S Brush Control Agent
000100 AR-99-0002 | Tilt Fungicide
001812 AR-99-0006 | Atrapa UV
000241 AZ-00-0003 | Acrobat MZ Fungicide
000352 AZ-02-0007 | Dupont Staple Herbicide
000352 AZ-02-0008 | Dupont Staple Plus Herbicide
000100 AZ-87-0022 | Eptam 7-E Selective Herbicide
000100 AZ-93-0004 | Eptam 7-E
000279 AZ-93-0014 | Thiodan 2 C.O. EC
000100 AZ-95-0001 | Eptam (r) 20. G Granules
073318 CA-00-0004 | Pro-Gibb 4% Liquid Concentrate
050534 CA-02-0013 | Daconil 720 Flowable Fungicide
003125 CA-03-0002 | Merit 2
000279 CA-76-0115 | Thiodan 3 E.C.
036029 CA-77-0496 | Wilco Gopher Getter Type 2 Bait
036029 CA-77-0497 | Wilco Ground Squirrel Bait
002935 CA-78-0228 | Red-Top Dusting Sulfur
011168 CA-79-0025 | Rodent Bait Diphacinone Treated Grain (0.005%)
059623 CA-79-0044 | Stauffer Vapam 4-S Soil Fumigant Solution
063223 CA-79-0058 | Imidan 50-WP Agricultural-Insecticide-Wettable Powder
002935 CA-79-0112 | Red-Top Dusting Sulfur
011179 CA-83-0044 | Ronilan Fungicide 50W
007501 CA-85-0026 | Gustafson Pro-Gro Dust Seed Protectant
005481 CA-86-0001 | Vapam Soil Fumigant Solution for All Crops
000279 CA-86-0035 | Thiodan 3 E.C.
003404 CA-87-0044 | Clorox
000279 CA-90-0031 | Thiodan 3 E.C.
000400 CA-94-0004 | Dimilin 25 W for Cotton/Soybean
005481 CA-96-0005 | Dibrom 8 Emulsive
066233 CA-96-0015 | Eptam 7-E Selective Herbicide
003125 CA-98-0008 | Merit 1 G Greenhouse and Nursery Insecticide
000432 CT-03-0001 | Maxforce TMS
000100 DE-96-0002 | Gramoxone Extra Herbicide
000100 DE-98-0002 | Tilt Fungicide
000100 DE-99-0001 | Dual Magnum Herbicide
001812 FL-00-0013 | Atrapa ULV
075353 FL-02-0003 | Ecolyst
000100 FL-80-0024 | Aatrex 4l Brand Atrazine/Season-Long Weed Cont. In Corn
003240 FL-86-0003 | Tomcat Rat and Mouse Bait
005481 FL-89-0003 | Dibrom 14 Concentrate
060182 FL-95-0002 | Enstar II Insect Growth Regulator (enstar 5E)
068660 FL-98-0004 | M-70 Technical Hydrogen Peroxide
000279 GA-03-0004 | Aim EC
000352 GA-97-0003 | Dupont Krenite S Brush Control Agent
000100 GA-98-0005 | Warrior T Insecticide
000100 HI-01-0002 | Cyclone Concentrate/gramoxone Max
000100 HI-01-0003 | Cyclone Concentrate/gramoxone Max
000241 HI-02-0003 | Amdro Fire Ant Insecticide
000241 HI-02-0009 | Amdro Fire Ant Insecticide
063210 HI-77-0010 | D-Z-N Diazinon 50w Insecticide
000279 HI-88-0008 | Thiodan 50WP Insecticide
000100 HI-92-0005 | Logic Fire Ant Bait
062719 HI-93-0010 | Lorsban 50W
062719 HI-93-0011 | Lorsban 50W Insecticide In Water Soluble Packets
000100 HI-97-0008 | Eptam 7-E Selective Herbicide
000100 HI-97-0009 | Eptam (r) 20-G Granules
000279 HI-98-0002 | Thiodan 3 E.C. Insecticide
000100 HI-99-0001 | Abound Fungicide
005481 ID-00-0008 | Win-Flo 4F
001812 ID-00-0011 | Declare
000279 ID-02-0012 | Thiodan 3 EC Insecticide
000279 ID-02-0013 | Thiodan 3 EC Insecticide
000279 ID-02-0014 | Thiodan 3 EC Insecticide
001812 ID-02-0025 | Atrapa 5E
001812 ID-02-0026 | Atrapa 8E
001812 ID-02-0027 | Atrapa 8E
000400 ID-03-0011 | Comite Agricultural Miticide
002935 ID-81-0044 | Ben-Sul 60 Dust
000279 ID-87-0013 | Thiodan 3 EC Insecticide
000279 ID-89-0009 | Thiodan 3 EC Insecticide
000352 ID-96-0009 | Dupont Accent SP Herbicide
000100 ID-97-0007 | Eptam 7-E Selective Herbicide
000279 ID-97-0009 | Thiodan 3 E.C. Insecticide
000100 ID-99-0008 | Abound Flowable Fungicide
045728 IN-97-0001 | Carbamate WDG (ferbam Granuflo)
000279 KS-03-0005 | Aim EW
000100 KS-98-0002 | Tilt Fungicide
000100 KS-98-0003 | Aatrex 4L Herbicide
000100 KS-99-0008 | Tilt Fungicide
000279 KY-03-0008 | Aim EW
000279 KY-04-0008 | Aim EW
045728 KY-94-0001 | Ferbam Granuflo
000100 KY-99-0001 | Dual Magnum Herbicide
000100 KY-99-0002 | Dual Magnum Herbicide
073848 LA-01-0001 | Baytex Liquid Concentrate Insecticide
000100 LA-01-0004 | Cyclone Concentrate/gramoxone Max
000352 LA-03-0002 | Dupont Krenite S Brush Control Agent
000279 LA-03-0007 | Aim 2 EC
002217 LA-94-0006 | Acme Hi-Dep Herbicide
000100 LA-95-0002 | Fusilade DX
000279 LA-95-0010 | Dragnet FT Termiticide
000100 LA-95-0013 | Fusilade DX Herbicide
000279 LA-96-0013 | Biflex TC Termiticide
000241 LA-97-0006 | Thimet 20-G Soil & Systemic Insecticide
000352 LA-97-0008 | Dupont Krenite S Brush Control Agent
001812 LA-98-0002 | Direx 4L
001812 LA-98-0003 | Direx 80DF
001812 LA-99-0005 | Atrapa UV
000432 LA-99-0014 | Termidor(r) SC Insecticide
005481 MD-81-0023 | Dibrom Concentrate
000100 ME-95-0007 | Gramoxone Extra Herbicide
033560 ME-95-0008 | Pronone 10G
000100 ME-98-0004 | Gramoxone Extra Herbicide
004581 MI-03-0001 | Topsin M WSB
073545 MI-86-0001 | Topsin M 70 W
059639 MI-93-0003 | Monitor 4 Spray
000100 MN-90-0004 | Gramoxone Extra Herbicide
000100 MN-95-0005 | Fusilade DX Herbicide
000100 MN-99-0015 | Warrior T Insecticide
000279 MO-03-0003 | Aim EC
000279 MO-03-0004 | Aim EW
072871 MO-99-0003 | Baytex Liquid Concentrate Insecticide
000100 MO-99-0004 | Warrior T Insecticide
071532 MS-01-0002 | LG Permethrin 3.2 Termiticide/Insecticide
000100 MS-01-0008 | Touchdown 5 Herbicide
000100 MS-01-0010 | Gramoxone Extra Herbicide
004787 MS-01-0036 | Glyfos X-TRA
000279 MS-03-0006 | Aim 2 EC
000279 MS-81-0035 | Thiodan 3 E.C.
000279 MS-81-0036 | Thiodan 50WP Insecticide
059639 MS-89-0011 | Orthene 75 S Soluble Powder
001448 MS-89-0018 | Busan 1132
001386 MS-95-0002 | 2,4-D Amine Weed Killer
000100 MS-95-0008 | Eptam 7-E Selective Herbicide
003125 MS-96-0011 | Premise 75 Insecticide
000279 MS-97-0002 | Biflex TC Termiticide
000279 MS-97-0004 | Dragnet FT Termiticide
000352 MS-97-0011 | Dupont Krenite S Brush Control Agent
000100 MT-00-0004 | Mertect LSP Fungicide
000100 MT-00-0013 | Fulfill
000279 MT-03-0002 | Thiodan 3 EC Insecticide
000279 MT-03-0003 | Thionex 50W Insecticide
000279 MT-87-0002 | Thiodan 50WP Insecticide
000279 MT-87-0003 | Thiodan 3 E.C.
002935 MT-94-0002 | Wilbur-Ellis Potato Seed Dust T
000100 MT-95-0004 | Fusilade Dx Herbicide
000100 MT-95-0006 | Warrior Insecticide
000100 MT-99-0006 | Dividend XL
000100 MT-99-0014 | Dividend XL RTA
000279 NC-00-0004 | Thiodan 3 EC Insecticide
068660 NC-03-0001 | Pak 27
000279 NC-03-0006 | Aim EC
000524 ND-02-0012 | Roundup Herbicide
000100 ND-99-0010 | Warrior T Insecticide
000279 NE-03-0006 | Aim EW Herbicide
007501 NJ-94-0001 | Gustafson Pro Gro Seed Protectant
000100 NJ-96-0009 | Gramoxone Extra Herbicide
007501 NJ-99-0009 | Pro-Gro Dust Seed Protectant
001812 NM-99-0001 | Atrapa UV
001812 NV-01-0002 | Atrapa 5E
001812 NV-01-0003 | Atrapa 8E
000279 NV-02-0002 | Thiodan 3 EC Insecticide
065343 NV-03-0002 | Super Six Liquid Sulfur
010163 NV-03-0003 | Savey 2E
000279 NV-86-0005 | Thiodan 3 E.C. Insecticide
000100 NV-91-0003 | Gramoxone Extra Herbicide
010163 NV-94-0005 | Metasystox-R Spray Concentrate
000100 NV-97-0004 | Eptam 7-E Slelective Herbicide
000432 NY-92-0003 | Scourge Insecticide with SBP-1382/PBO 18+54% MF Form.II
005481 NY-94-0006 | Dibrom Concentrate
005481 NY-97-0005 | Trumpet EC Insecticide
000100 NY-97-0010 | Reward Aquatic and Noncrop Herbicide
059639 OH-00-0006 | Orthene 97 Pellets
000279 OH-03-0005 | Aim EW
001448 OH-90-0003 | Busan 77
001448 OH-90-0004 | Busan 77
045728 OH-94-0004 | Ferbam Granuflo
045728 OH-99-0004 | Carbamate Wdg Fungicide
000279 OK-03-0003 | Aim EC Herbicide
000279 OK-04-0003 | Aim EC Herbicide
004581 OK-81-0023 | Accelerate A Harvest Aid for Cotton
045639 OR-00-0003 | Ignite 1SC Herbicide
000241 OR-00-0008 | Prowl 3.3 EC Herbicide
000352 OR-00-0013 | Dupont Oust Herbicide
010163 OR-00-0018 | Rubigan E.C.
005481 OR-00-0019 | Win-Flo 4F
001812 OR-01-0020 | Direx 4L
001812 OR-01-0021 | Direx 80DF
066222 OR-01-0025 | Galigan 2E
000100 OR-02-0014 | Abound Flowable Fungicide
000352 OR-02-0015 | Oust XP Herbicide
000241 OR-03-0003 | Raptor Herbicide
003125 OR-03-0005 | Stratego Fungicide
000400 OR-03-0025 | Comite Agricultural Miticide
007946 OR-03-0028 | Imicide
000279 OR-77-0042 | Thiodan 50WP Insecticide
000279 OR-77-0043 | Thiodan 3 E.C.
000100 OR-79-0077 | Aatrex Nine-O Herbicide
000279 OR-83-0026 | Furadan 15 G Insecticide-Nematicide
004581 OR-87-0004 | Des-I-Cate
034704 OR-88-0010 | Diazinon 500-AG
000400 OR-88-0013 | Dimilin 25W for Cotton/soybean
034704 OR-89-0005 | Clean Crop Phorate 20g
060217 OR-91-0012 | Sprout Nip Emulsifiable Concentrate
034704 OR-92-0007 | Clean Crop Low Vol 6 Ester Weed Killer
000352 OR-92-0016 | Du Pont Sinbar Herbicide
034704 OR-92-0024 | Aceto Simazine 4l Flowable Herbicide
034704 OR-93-0003 | Niagara Supreme Oil Code 30497
034704 OR-95-0010 | Clean Crop Atrazine 90WDG Turf & Conifer Herbicide
000524 OR-95-0022 | Ramrod Flowable Herbicide
045728 OR-95-0035 | Ferbam Granuflo
000279 OR-96-0004 | Thiodan 3 E.C. Insecticide
034704 OR-96-0010 | Clean Crop Low Vol 6 Ester Weed Killer
000352 OR-96-0029 | Dupont Accent SP Herbicide
034704 OR-97-0010 | Salvo Low Volatile Weed Killer
002935 OR-97-0011 | Nubark Mancozeb/TBZ Potato Seed Protectant
000100 OR-97-0014 | Eptam 7-E Selective Herbicide
034704 OR-98-0007 | Clean Crop Dimethoate 400
000279 OR-98-0008 | Thiodan 3 EC Insecticide
001812 OR-99-0005 | Direx 80DF
000100 OR-99-0029 | Warrior T Insecticide
000100 PA-96-0004 | Gramoxone Extra Herbicide
074033 PR-01-0001 | Avaunt Insecticide
003125 RI-97-0002 | Merit 0.5 G Insecticide
000100 RI-98-0001 | Devrinol 10G Selective Herbicide
000279 SC-03-0009 | Aim EC Herbicide
000100 SC-94-0001 | Reflex 2lC Herbicide
000352 SC-97-0006 | Dupont Krenite S Brush Control Agent
000100 SD-99-0005 | Warrior T Insecticide
000100 TN-93-0007 | Ordram 15-G
004581 TN-94-0002 | Aquathol K
000100 TN-98-0004 | Tilt Fungicide
000352 TN-98-0005 | Dupont Krenite S Brush Control Agent
000100 TN-99-0005 | Karate Insecticide
000279 TX-03-0007 | Aim 2 EC
000100 TX-90-0009 | Gramoxone Extra Herbicide
000100 TX-96-0005 | Cyclone Herbicide
000352 TX-98-0007 | Dupont Krenite S Brush Control Agent
007969 TX-99-0011 | Facet 75 DF Herbicide
007969 TX-99-0017 | Facet 75 DF Herbicide
033691 UT-03-0002 | Perma Guard Garden and Plant Insecticide D-21
000100 UT-96-0002 | Warrior Insecticide
000100 UT-97-0001 | Eptam 7-E Selective Herbicide
064025 VA-83-0017 | Amchem Ethrel Plant Regulator
000100 VA-94-0012 | Gramoxone Extra Herbicide
000100 VA-96-0001 | Devrinol 50-Df Selective Herbicide
000352 VA-98-0008 | Dupont Krenite S Brush Control Agent
073269 WA-00-0007 | Guthion Solupak 50% Wettable Powder Insecticide
001812 WA-00-0019 | Declare
005481 WA-00-0030 | Win-Flo 4F
000100 WA-01-0020 | Mycoshield Brand of Agricultural Terramycin
066222 WA-01-0029 | Galigan 2E
000241 WA-02-0022 | Acrobat 50wp Fungicide
075758 WA-03-0008 | Rex Lime Sulphur Solution
000400 WA-03-0029 | Comite Agricultural Miticide
000279 WA-77-0016 | Thiodan 3 E.C.
000279 WA-78-0029 | Thiodan 50WP Insecticide
000279 WA-78-0033 | Thiodan 50WP Insecticide
000100 WA-79-0078 | Aatrex Nine-O
000100 WA-80-0083 | Aatrex Nine-O
034704 WA-82-0046 | Clean Crop Sulfur 6 Flowable
002935 WA-83-0012 | Red-Top Diazinon 4 Spray
002935 WA-84-0052 | Ben-Sul 60 Dust
000279 WA-87-0012 | Thiodan 50WP Insecticide
000279 WA-87-0013 | Thiodan 3 E.C.
002935 WA-88-0002 | Wilbur-Ellis Copper 3 Dust
005481 WA-91-0040 | Fruit Fix Super Concentrate 800
005481 WA-91-0041 | Fruit Fix Concentrate 200
000352 WA-92-0024 | Du Pont Sinbar Herbicide
034704 WA-93-0004 | Clean Crop Low Vol 6 Ester Weed Killer
005481 WA-93-0022 | Vapam Soil Fumigant Solution for All Crops
002935 WA-93-0023 | Red Top Potato Seed Piece Fungicde Dust
005481 WA-93-0024 | Metam Sodium
005481 WA-94-0005 | Metam 426
045728 WA-94-0029 | Ferbam Granuflo
034704 WA-95-0010 | Clean Crop Atrazine 90WDG Turf & Conifer Herbicide
000524 WA-95-0031 | Ramrod Flowable Herbicide
000352 WA-96-0023 | Dupont Accent SP Herbicide
000100 WA-97-0002 | Mefenoxam EC
000100 WA-97-0025 | Eptam 7-E Selective Herbicide
034704 WA-97-0037 | Clean Crop Trifluralin Hf
034704 WA-98-0003 | Clean Crop Trifluralin Hf
071523 WA-98-0006 | Vinco Formaldehyde Solution
065135 WA-98-0007 | Vinco Formaldehyde Solution
000279 WA-98-0016 | Thiodan 3 E.C. Insecticide
000100 WA-99-0024 | Warrior T Insecticide
010163 WI-02-0001 | Halo-Sulfuron-Methyl/Cucumber, Pumpkin*/Squash
000279 WI-02-0011 | Thiodan 3 EC Insecticide
000279 WI-99-0001 | Thiodan 3 EC Insecticide
003125 WY-01-0001 | Sencor DF 75% Dry Flowable Herbicide
000100 WY-94-0001 | Fusilade DX
000279 WY-98-0006 | Furadan 4F Insecticide/nematicide

Table 2.—Section 3 Registrations Canceled for Non-Payment of Maintenance Fee
Registration no. | Product Name
000016-00118 | Dragon Granular Lawn Insect Control
000016-00119 | Dragon 5% Diazinon Granules
000016-00157 | Dragon 25% Diazinon Spray
000016-00166 | Dragon Diazinon Water-Based Concentrate
000056-00041 | Eaton's Bait Blocks Rodenticide with Apple Flavorizer
000056-00044 | Eaton's All Weather Bait Blocks Rodenticide with Fish Flavor
000070-00124 | Kill-Ko Malathion Concentrate
000072-00019 | Miller Lime Sulfur Solution
000100-00779 | Dividend Mg Fungicide
000100-00802 | Mefenoxam
000100-00813 | Vangard WP Fungicide
000100-00814 | Dividend WS
000100-00831 | Banvel 720 Herbicide
000100-00832 | Banvel CST
000100-00877 | Pyridate Technical
000100-00878 | Banvel 10G Herbicide
000100-00880 | Tough 5 EC
000100-00942 | Adage 70WS Insecticide
000100-00994 | PP005 2E Herbicide
000100-01003 | Fusilade 2000 Herbicide
000100-01005 | Demon 3E Insecticide
000100-01007 | Demon 3 TC Insecticide
000100-01011 | Commodore EC Insecticide
000100-01038 | Clipper 2SC Tree Growth Regulator
000100-01041 | Touchdown Concentrate Herbicide
000100-01042 | Touchdown 4-LC
000100-01044 | Commodore WP Insecticide
000100-01045 | Scimitar WP Insecticide
000100-01047 | Touchdown Technical
000100-01048 | Touchdown (r) 6 Herbicide
000100-01058 | Commodore WP Insecticide In Water-Soluble Packets
000100-01071 | Typhoon Herbicide
000100-01076 | Scimitar WP Greenhouse Insecticide In Water Soluble Packets
000100-01077 | Scimitar WP Greenhouse Insecticide
000100-01081 | Scimitar CS Greenhouse Insecticide
000100-01085 | Commodore Insecticide In Ready Mix Water Soluble Packet
000100-01089 | Scimitar WP Golf Course Turf Insecticide
000100-01090 | Scimitar WP Turf and Ornamental Insecticide
000100-01096 | Lambda-Cyhalothrin CS Insecticide
000100-01099 | Icia5504 80WG Fungicide
000100-01100 | Scimitar G & N Insecticide In Water Soluble Packets
000100-01108 | Touchdown 5 Herbicide
000100-01116 | Typhoon D Herbicide
000110-20001 | Chlor-Clean
000151-00014 | Pioneer Pc-30 Disinfectant Cleaner “New Improved”
000228-00099 | Riverdale 10% Dacthal Granules
000228-00101 | Riverdale Double M Insecticide Alfalfa Spray
000228-00105 | Riverdale Methoxychlor Emulsifiable Concentrate
000228-00157 | Riverdale Crabgrass Control and Fertilizer
000228-00161 | Riverdale Grub Out Plus Fertilizer
000228-00188 | Riverdale Rose & Floral Spray
000228-00222 | Riverdale 25% Dacthal Dust
000239-02364 | Ortho Diazinon Insect Spray
000239-02375 | Ortho Diazinon Granules
000239-02479 | Ortho Diazinon Soil & Turf Insect Control
000239-02503 | Ortho Diazinon Granular Fire Ant Killer
000239-02619 | Hi-Power Ant, Roach & Spider Spray Formula II
000239-02630 | Ortho Diazinon Insect Spray Ready-To-Use
000239-02643 | Ortho Diazinon Insect Spray 2
000239-02671 | Ortho Diazinon Dust
000241-00317 | Event Grass Growth Regulator
000241-00396 | Structure Residual Herbicide
000241-00406 | Extreme CP Herbicide
000402-00118 | Scorch
000421-00378 | Anti-Staph the Triple Threat
000432-01290 | Baytex Technical Insecticide
000458-00031 | Usol Organiclear Twenty-To-One Concentrate (water Dilutable)
000491-00008 | Selig's Pinetax
000491-00221 | Mr. Triple Zero Weed Killer
000498-00147 | Spraypak Wasp & Hornet Killer
000498-00153 | Spraypak Wasp Spray 0.25%
000499-00361 | Whitmire Outdoor Ornamental Insect Spray
000499-00454 | ULD BP-110 Emulsifiable Insecticide Concentrate
000499-00456 | ULD BP-30 Mill and Food Plant Spray
000499-00458 | ULD BP-5025 Insecticide
000499-00474 | Pro-Control Inspector IV
000506-00180 | Tat Multi-Purpose Insect Killer
000506-00185 | Tat Wasp & Hornet Killer
000539-00304 | Sears Roto-Belt Humidifier Bacteriostat & Water Treatment
000572-00145 | R0ckland Malathion 57%
000572-00181 | Triple “D” Lawn Weed Killer
000572-00183 | Rockland Malathion 50
000572-00195 | Rockland Professional Super Tupersan
000572-00200 | Rockland Garden Clean with Trifluralin
000572-00255 | Rockland Feed & Seed with Tupersan
000572-00273 | Rockland Three-Way Lawn Weed Killer
000572-00285 | Rockland Garden Insect Spray RTU
000572-00305 | Rockland Diazinon Spray
000572-00315 | Rockland Rotenone-Pyrethrum Insecticide
000572-00326 | Rockland Fly Rid
000572-00351 | Wasp & Yellow Jacket Bomb
000572-00354 | Rockland Ornamental Fungicide
000655-00028 | Prentox Lindane Technical Powder
000655-00556 | Prentox Diazinon 5G
000655-00764 | Prentox Chlorpyrifos 2.32G Insecticide
000655-00766 | Prentox Chlorpyrifos 1/2G Granular Insecticide
000655-00786 | Pyrifos Residual Spray
000706-00040 | Claire Mint Aire Air Sanitizer and Deodorizer
000706-00062 | Lemon Aire Air Sanitizer & Deodorizer
000706-00072 | Claire Golden Jet Bee Wasp & Hornet Killer
000706-00095 | Claire Multi-Use Insecticide Spray
000706-00096 | Claire Bug Buster Insect Killer
000706-00100 | Lice Killer
000706-00101 | Claire Jet Force II Wasp & Hornet Killer
000706-00103 | Big Jinx III Ant & Roach Killer
000706-00104 | Clair Big Jinx III Roach & Ant Killer
000769-00624 | SMCP Malathion 50%
000769-00673 | SMCP 5% Malathion Dust
000769-00676 | SMCP Malathion 25-Wp
000769-00677 | SMCP Malathion 5% Pco Dust
000769-00752 | PCE Malathion Ddvp Residual Spray
000769-00783 | Superior Malathion E-45
000769-00785 | Omnikill Roack and Ant Bomb
000769-00786 | Superior S. K. Formula
000769-00809 | Superior EC 5 Malathion Concentrate
000769-00850 | Pratt Noculate Systemic Insecticide Granular
000769-00903 | Science Garden Insect Spray
000769-00915 | Science Gladiolus & Bulb Dust
000773-00076 | Del-Phos Emulsifiable Liquid Insecticide
000777-00053 | Lysol Brand Disinfectant Spray
000784-00098 | Top-Quat
000802-00123 | Lilly/Miller Malathion
000802-00426 | Lilly/Miller Systemic Rose, Shrub & Flower Care
000802-00516 | Miller's Vegetable and Fruit Spray
000802-00564 | Lilly/Miller Weed & Grass Preventer
000829-00232 | SA-50 Brand Lawn Ormamental & Vegetable Fungicide
000829-00272 | SA-50 Brand Dursban Mole Cricket Bait
000833-00065 | AFCO Low Foam Tops
000833-00074 | Chlorilizer Plus
000909-00106 | Cooke Summer & Dormant Oil Insect Spray Concentrate
001021-00046 | Pyrocide Booster Concentrate H Emulsifiable
001021-00107 | Pyrocide* Intermediate 64
001021-00204 | Pyrocide Intermediate 0055
001021-00374 | Pyrocide Aerosol Mix No. 5258
001021-00385 | Pyrocide Aerosol Mix 933
001021-00426 | Pyrocide Aerosol Mix 5307
001021-00452 | Pyrocide Intermediate No. 5444
001021-00583 | Pyrocide Intermediate 5886
001021-00683 | Pyrocide Aerosol Mix No. 6210
001021-00752 | Pyrocide Intermediate No. 6443
001021-00774 | Pyrocide Formula No. 6471
001021-00853 | Pyrocide Aerosol Mix 6664
001021-00910 | Pyrocide Intermediate 6781
001021-00925 | Emulsifiable Synergized Pyrethrum Concentrate 6055
001021-01011 | Pyrocide Intermediate 6905
001021-01019 | Pyrocide Intermediate 6915
001021-01146 | Pyrocide Fogging Conc 7052
001021-01271 | Pyrocide Fogging Concentrate 7336
001021-01307 | Pyrocide Fogging Concentrate 7210
001021-01316 | Pyrocide Intermediate 5770
001021-01318 | Pyrocide Fogging Formula 7221
001021-01450 | Evercide Fenvalerate 80% Concentrate
001021-01459 | Pyrocide Intermediate 7340
001021-01477 | Evercide Intermediate 2265
001021-01480 | Evercide Intermediate 2274
001021-01492 | Evercide Intermediate 2244
001021-01502 | Pyrocide Fogging Formula 7349
001021-01523 | Evercide Residual Insecticide Concentrate 2362
001021-01528 | Evercide Intermediate 2338
001021-01538 | Evercide Concentrate 2403
001021-01539 | Evercide Concentrate 2414
001021-01560 | Multicide Fogging Concentrate 2486
001021-01561 | Multicide Fogging Concentrate 2487
001021-01571 | Pyrocide Intermediate 7387
001021-01573 | Multicide Concentrate 2495
001021-01580 | Evercide Intermediate 2494
001021-01614 | Clearmol Intermediate 7410
001021-01618 | Pyrocide Fogging Concentrate 7411
001021-01639 | Pyrocide Concentrate 7409
001022-00543 | Chapcide 4-EC
001190-00049 | M.G.C.
001190-00052 | Hospi-Tol 64
001275-00028 | Pine-Odor Disinfectant
001352-00060 | Nutrena Fly Block with Rabon Oral Larvicide
001386-00605 | Malathion 6 Grain Protectany
001386-00613 | Dursban Lawn and Ornamental Insect Control
001386-00615 | Termite Kill II
001386-00649 | Dursban 4E
001386-00652 | Security Pro-Turf 1 Insect Control Granules
001386-00653 | Security Pro-Turf 2 Insect Control Granules
001448-00336 | Vantrol Conditioner No 5
001459-00024 | Whirl Pool Fast Acting Emulsion Bowl Cleaner
001469-00023 | Pentapine Disinfectant
001677-00051 | X-4
001677-00187 | CD - 600
001706-00145 | Nalco 7326 Algaecide
001706-00188 | H-434 Microbiocide
001706-00223 | Veligon Cl-M
001706-00224 | Veligon L-M
001706-00225 | Veligon LS-M
001706-00227 | Veligon DL-M
001706-00228 | Veligon T-2-M
001839-00015 | BRC-824 (20% Active)
001839-00021 | BTC-824 P40
001839-00062 | BTC 50 Concentrate Germicide
001839-00118 | BTC 190
001839-00136 | BTC-885-P40
001839-00162 | BTC 885-P40 Detergent/Disinfectant
002288-00006 | 408 Marine Fuel Stabilizer
002398-00007 | Pronto Lice, Tick and Flea Killing Spray
002686-00018 | Chlorosan
002693-00115 | Micron 22 45L Green
002693-00127 | Hisol BF254 Self Polishing Copolymer A/F
002693-00191 | Micron 33 Outdrive Spray 464A White
002724-00169 | Vet-Kem Kemolate Emulsifiable Liquid
002724-00487 | Arthitrol 0.5% Dursban Paste Bait
002733-00001 | Breath O'pine All Purpose Cleaner
002777-00021 | Indianhead Fly Killer
002935-00139 | Red-Top Premium Grade Malathion Grain Protectant
002935-00246 | Ben-Sul 60 Dust
002935-00417 | Wilbur-Ellis Potato Seed Dust T
002935-00419 | PCNB Seed-Coat
002935-00420 | Nusan Flowable 30
002935-00426 | Lorsban 30 Flowable
002935-00513 | Dusting Sulfur
002935-00515 | 2,4-D Amine 6#
002935-00533 | Dusting Sulfur 98
003008-00022 | Osmose Wood Preserving Stain
003008-00035 | Osmose K-33 (40%) Type B Wood Preservative
003008-00036 | Osmose K-33-C (50%) Wood Preservative
003008-00042 | Osmose K-33-A (50%) Wood Preservative
003008-00059 | Copper Chem (AMCU)
003008-00081 | Noah Gold
003008-00082 | Noah Gold CS
003090-00177 | Sanitized Brand Xbh Bacteriostatic Chemicals
003276-00018 | A & L Al-Dine
003342-00093 | Grain Storage 1-M Dust
003342-00094 | Super Kill
003342-00102 | Security Brand Thiodan Spray
003377-00060 | Albemarle Ultra-80 Algicide
003377-00073 | Sanibrom 43
003377-00075 | Sanibrom 10 Algicide
003522-00012 | Luseaux QT-550
003522-00014 | Luseaux S Q 550
003522-00018 | Luseaux Chlo-Rins-Tabs
003536-00004 | H.K Mouse & Rat Bait
003838-00048 | Trust
003838-00052 | Readiquat - Tb
003862-00142 | D-Weed-O Formula #4
003931-00006 | Ancocide 4040
004000-00058 | Pyrethroid 351 Aqueous Pressurized Insecticide Spray
004313-00056 | Pine Quat Pine Odor Disinfectant
004704-00005 | Magic Circle Industrial Insecticide
004704-00026 | Magic Circle Fog Spray Conc.
004822-00482 | Raid Pid 1
004959-00049 | I-Dyne Disinfectant
005174-00018 | Qd Quaternary Disinfectant
005185-00488 | Dichloro Shock
005204-00063 | Biomet 300 Antifouling Agent
005204-00065 | Biomet 302 Antifouling Agent
005204-00067 | Biomet 304 Antifouling Agent
005204-00080 | Biomet 303/60 Antifouling Agent
005204-00081 | Biomet 304/60 Antifouling Agent
005204-00083 | Poly-Flo 4024
005204-00087 | Biomet 305
005204-00088 | Biomet 309 Antifouling Agent
005204-00090 | Biomet 300/60
005389-00011 | Mcd Powder Bleach
005389-00016 | Kay 10 Np (non Phosphate) Sanitizer
005389-20003 | Sani-Power Low Temp Warewash Sanitizer
005449-00011 | Ful-Trole
005625-00001 | Tempo Marine Outboard Outdrive Clear Anti-Fouling Paint No.
005887-00077 | Black Leaf Liquid Fruit Tree Spray
006148-00011 | Coppertone Bug & Sun Sunscreen with Insect Repellent Adult F
006482-00008 | Lone Star 14% Protein Hi-Pro-Min with Rabon Oral Larvicide
006621-00072 | Fresh Impression Anti-Bacterial Disinfecting Toilet Bowl Cleaner
006836-00194 | Towercide 10lF
006959-00093 | Cessco Crawling Insect Killer
006959-00097 | DDVP 5%
007001-00284 | Metam (soil Fumigant)
007001-00376 | Lange Brand Dimension Granules Turf Herbicide
007124-00055 | Tru-Clor
007124-00065 | Nu.Clo Quick Dissolving Chlorinating Tablets One-A-Day 20,000
007124-00066 | Nu-Clo Quick Dissolving Tablets Chlorinating Tablets 1-A-Day
007124-00067 | Nu-Clo Quick Dissolving Chlorinating Tablets
007124-00068 | Nu-Clo Quick Dissolving Chlorinating Tablets
007124-00071 | Nu-Clo 7 Day Slow Dissolving Chlorinating Tablets
007138-00012 | Southern States Cattle Mineral Rabon Block
007501-00029 | Gustafon Lorsban 50-Sl
007501-00037 | Gustafson Vitavax Maneb Lindane 20-35-18.75 Fungicide
007501-00044 | Gustafson Vitavax-Thiram 20-20
007501-00078 | Gustafson RTU-PCNB/Lindane Seed Protectant
007501-00095 | Gustafson Vitavax Pour-On Flowable Fungicide
007501-00112 | Vitavax-Diazinon-Lindane Seed Treatment Insecticide-Fungicide
007501-00135 | Gustafson Rtu Flowable Soybean Fungicide
007501-00152 | Enhance V-M-L
007501-00158 | Kodiak T Fungicide
007501-00166 | Rtu-Vitavax-Extra
007616-00053 | Cal Chlor Chlorinating Granules
007643-00007 | Nuchlor
007689-00014 | Wardley's Liquid Allclear
007689-00016 | Allclear II Algicide for Outdoor Fishpools
007689-00017 | Allclear II Aquarium Algicide
007701-00034 | Lanscaper Weed Killer & Prepaving Preparation
007754-00047 | Total Release .4 Perm
007754-00049 | Ari Flea & Tick Spray Formula I
007754-00052 | Bee Bopper III Wasp and Hornet Killer
007969-00116 | MCPP Amine 4
007969-00127 | Mecoprop AK Technical Acid
008119-00003 | Corry's Liquid Bug, Snail & Slug Bait
008119-00012 | Corry's Slug & Snail (3.5)
008119-00014 | Corry's Slug & Snail (3.0)
008120-00048 | Amercoat 698 HS
008120-00054 | Amercoat 3224 White Aerosol Antifoulant
008120-00065 | Devran 218-S-3888
008120-00066 | Abc #2 282-S-4754 Marine Antifouling Paint #2 Red
008329-00023 | Dursban 1/2%G
008329-00026 | Dursban 1% G
008370-00016 | N-601 Disinfectant-Sanitizer
008378-00026 | Shaw's Turf Food Insect Control 92/dursban
008378-00034 | 2.32 Dursban Granules
008428-00009 | S-6-Klor
008429-00009 | Cairox ZM Free Flowing Potassium Permanganate
008596-00034 | Myco Curb FG
008780-00051 | Turf Line Diazinon 5G Lawn Insect Control
008780-00054 | Turf Line Diazinon Lawn Insect Control Plus Fertilizer #2
008780-00055 | Turf Line Diazinon Lawn Insect Control Plus Fertilizer
008780-00056 | Turf Line Arthroban Triple Action #4
008791-00026 | Tri-Chlor Slow Tabs
008791-00049 | E-Z Clor Hypochlor Big Tabs
008959-00001 | Cutrine Algaecide
009198-00016 | Frank S Garden King Weed and Feed
009198-00032 | Turf Care for Lawn Maintenance 38-0-0 with Dursban Brand Insecticide
009198-00047 | Andersons Weed Killer 0.84% 2.4-D and 0.84% MCPP
009198-00049 | Andersons Weed and Feed
009198-00053 | The Andersons Weed and Feed III
009198-00054 | Anderson's Weed and Feed II 28-3-9
009198-00084 | Andersons Tee Time 30-3-5 with 0.65% Dursban
009198-00127 | Twinlight Dursban Turf Insect Killer
009198-00132 | The Andersons 0.97% Dursban Brand Insecticide
009198-00170 | Proturf Pythium Control
009198-00185 | Scotts Proturf 30-4-4 Fertilizer Plus Weedgrass Preventer
009198-00193 | Proturf Turf Growth Regulator + Fertilizer for Sandy Soils
009198-00194 | Turf Growth Regulator Plus Fertilizer
009198-00195 | Scotts Proturf Turf Fertilizer Plus Weedgrass Control
009198-00200 | Fertilizer Plus Insecticide/Preemergent Weed Control
009198-00202 | Tgr(r) Turf Enhancer 50 WP
009367-00019 | T-C 505 Q
009367-00036 | Bowl-San
009386-00022 | AMA-3523
009409-00003 | Pro-San II
009444-00184 | CB Strikeforce Hpx II Residual with Dursban
009444-00202 | Strikeforce II Residual with Dursban
009561-00003 | Kelley's Anticoagulant Rat and Mouse Bait
009591-00163 | Pressurized Insecticide 550
009591-00167 | Mill Spray
009634-00001 | Alginx
009712-00006 | Algicide
009743-00002 | Microbiocide No. 8
009754-00001 | Tri-Kil Nonselective Weed and Grass Killer
009886-00006 | Unipine 75
009886-00008 | Unipine S-70
009886-00011 | Unipine 90
010079-00001 | J.C. Algaecide
010088-00085 | Surface Insecticide
010088-00094 | Ultra Insecticide
010133-00005 | National's Zeolite Algaecide NP40l
010250-00051 | Hempel's Antifouling Combic 7199E Red 51110
010250-00052 | Hempel's Antifouling Combic 71990-19990
010292-00015 | Pine Odor Disinfectant Cleaner
010292-00018 | Bowlex Bowl Sanitizer
010324-00075 | Lemeen
010350-00020 | Permethrin 20 MEC Manufacturing Use Concentrate
010350-00021 | MEC Permethrin Livestock Premise Spray Concentrate
010350-00041 | Permethrin 20 MEC Livestock Premise Spray Concentrate
010404-00015 | Lesco 2.32 Granular Insecticide
010404-00027 | Lesco Dursban(r) 0.97% Plus Fertilizer
010404-00029 | Lesco Dursban(r) 0.74% Plus Fertilizer
010404-00038 | Lesco PCNB-10% Granular Soil Fungicide
010404-00040 | Lesco Dursban(r) 0.42% Plus Fertilizer
010404-00053 | Lesco Turf Fertilizer with Team
010404-00057 | Lesco Turf Fertilizer with 1.25% Team
010404-00069 | Lesco Three-Way 53% Dg Selective Broadleaf Herbicide
010404-00081 | Lesco 0.97 Dursban Granules
010404-00099 | Lesco Deltagard T & o 0.05% Plus Fertilizer
010465-00025 | Csi 70% Sodium Dichromate Solution
010465-00026 | Cca Type C Wood Preservative 50%
010465-00037 | ACQ 2100
010465-00040 | ACQ 2101
010542-00002 | Scentinella Candel
010772-00009 | Lambert Kay Zenox Concentrated Shampoo for Dogs
010772-00010 | Zenox Flea & Tick Shampoo for Cats and Dogs
010772-00013 | Zenox 75 Flea & Tick Dog Shampoo
010807-00002 | Misty Dual Synergist Insecticide
010807-00006 | Misty Multi-Purpose Insecticide
010807-00007 | Misty Glycol Air Sanitizer-Mint Fragrance
010807-00010 | Misty Insect Killer
010807-00016 | Misty Accur-Spray Wasp & Hornet Killer
010807-00026 | Misty Glycol Air Sanitizer-Orange Fragrance
010807-00038 | Misty Mizer Air Sanitizer-Mint Fragrance
010807-00039 | Misty Mizer Air Sanitizer (bouquet)
010807-00046 | Misty Aircraft Insecticide
010807-00063 | Misty Fog Away
010807-00071 | Misty Fly-A-Way
010807-00072 | Misty Glycol Air Sanitizer El Capitan Fragrance
010807-00075 | Misty Conquest
010807-00076 | Misty Fog-It
010807-00083 | Misty Accur-Spray II Wasp & Hornet Killer
010807-00086 | Misty II Flying Insect Killer, .6P
010807-00087 | Misty P.COo. Professional Flying Insect Killer
010807-00088 | Misty General Purpose Flying Insect Killer
010807-00092 | Dual Synergist Space Spray Insecticide
010807-00093 | C-10 Algaecide
010807-00109 | Mosquito & Fly Spray
010807-00121 | Misty Industrial Aqueous Emulsifiable Concentrate
010807-00130 | Misty Liquid Disinfectant
010807-00132 | Citra-Clean
010807-00134 | Control 750
010807-00154 | Misty Terminate
010807-00158 | Amrep 5004
010807-00159 | Amrep 5002
010807-00163 | Amrep 5009
010807-00164 | Misty Fog Plus II
010807-00175 | Amtep 6000
010807-00179 | Wemcide CW 102
010807-00180 | Wemcide CW 106
010807-00193 | Misty Fog Off!
010897-00001 | Hasa Chlorinating Granules
010897-00016 | Tabit Automatic Chlorinating Cartridge
010897-00017 | Tabit Chlorinating Cartridge
010897-00030 | Hasa Dry Algaecide
010897-00035 | Purechlor Sanitizer 12.5%
010897-00036 | Purechlor Sanitizer II 10.0%
010897-00037 | Sani-Clor Big Tabs
010897-00038 | Sani-Clor Granules 2
010897-00039 | Spa-Kleen Granules II
010897-00040 | Sani-Clor Good-Bye Algae
010897-00041 | Sani-Clor Pool Sanitizer
010897-00042 | Sani-Clor Pool Sanitizer II
010897-00043 | Sani-Clor Sani-Pure
010897-00044 | Sani-Chlor Shock Treatment
010897-00045 | Sani-Clor Small Tabs
010900-00060 | 871 House and Garden Insect Killer
010900-00064 | 875 House and Garden Spray Resmethrin/bioallethrin
010932-00008 | A-109 Microbiocide
010932-00011 | 7212 Microbiocide
011440-00003 | Lane Weedkill N.S. No 3
011529-00012 | Baf-150
011623-00005 | Apollo Germicidal Spray Cleaner - Spray On/Wipe Off
011623-00041 | Apollo Trainer Indoor/outdoor Repellant
011623-00045 | Ant & Roach III
011623-00049 | Apollo Contact II
011623-00050 | Wasp & Hornet III
011623-00051 | Apollo CIK Spray II
011623-00052 | Roach Ant & Spider Killer
011649-00012 | Avitrol FC Corn Chops-99
011649-00013 | Avitrol FC Corn Chops 1-10 Concentrate
011712-00001 | Bact-Cide
011725-00007 | Tek-Trol Disinfectant Cleaner Concentrate
011725-00008 | Tek-Phene Cleaner-Disinfectant-Deodorant
011725-00009 | Opti-Phene Cleaner Disinfectant Deodorant
011725-00010 | Bio-Phenol 67
011725-00011 | Pheno-Tek II
011760-00001 | Edsan Q-A
011760-00003 | Edsan Spectrum
012020-00001 | Diuron Technical
012020-00002 | Diuron-80
012204-00005 | Marc 34 Marcicide
012204-00018 | Marc 37 Marcicide
012455-00093 | Bromethalin Concentrate
012477-00003 | CP-10
013215-00001 | Super-Qwik Concentrate Multi-Duty Bowl Cleaner
013215-00002 | Neutra Quik Concentrate Light-Duty Bowl Cleaner
013285-00001 | Strippette - Sanitizer
014955-00033 | Sms Disinfectant-Sanitizer
015440-00012 | Technical 2-(2,4-Dichlorophenoxy) Propionic Acid
015440-00014 | Marks Cmpp (mecoprop) Technical Acid
015440-00016 | Marks Technical Iso-Octyl Ester of 2.4-DP
015440-00017 | Technical Mecoprop
015440-00021 | Kvk MCP Acid
015440-00022 | Technical 2-EH Ester of Mcpa
017545-00006 | Weed Ender
021164-00021 | Akta Klor 80X
023563-00001 | Mur Kil
024909-00001 | Steri-Kleen Disinfectant
024909-00004 | Steri-Du Sanitizer, Disinfectant-Deodorizer
024909-00016 | Aqua-K Insecticide
026693-00002 | Killmaster II
027586-00001 | Tm Biocontrol-1
027586-00002 | Gypchek Biological Insecticide for the Gypsy Moth
027586-00005 | Technical MCH
028293-00087 | Unicorn House and Carpet Spray
028293-00099 | Unicorn Dursban Spray
028293-00121 | Unicorn Dursban - Resmethrin Spray
028293-00142 | Unicorn Packaging & Processing Plant Aerosol Spray
028293-00149 | Unicorn House and Carpet Spray II
028293-00200 | Unicorn Dursban 2E
028293-00201 | Unicorn Dursban 2.5%G Granules
028293-00202 | Unicorn Dursban 1.0%G Granules
028293-00203 | Unicorn Dursban 1%-D Dust.
028293-00204 | Unicorn Dursban 4E
028293-00205 | Unicorn Dursban 1-12
028293-00210 | Dursban 1-E Insecticide
028293-00265 | Unicorn Dursban 6.7% Insecticide
032802-00005 | All Season Diazinon 5G Insecticide
032802-00045 | All Season Sprayable Weed & Feed
032852-00013 | Chemcide Sba
032970-00003 | Ad Bac 4227
033176-00023 | Airysol Ant & Roach Killer
033660-00031 | Flutrix Five EC
033660-00033 | Flutrix 4EC
034269-00001 | Poolside Algi-Rid Concentrate
034704-00021 | Clean Crop Thiodan 3 EC
034704-00035 | Clean Crop Grain Preserver
034704-00040 | Clean Crop Thiram-Moly
034704-00055 | Clean Crop Chlorpyrifos 1/2G Turf Insecticide
034704-00057 | Clean Crop Diazinon 5 Lawn & Garden
034704-00065 | Chlorpyrifos 2E
034704-00066 | Clean Crop Chlorpyrifos 4E Insecticide
034704-00067 | Clean Crop Ziram 76 WP
034704-00106 | Clean Crop 4% Malathion Grain Protector
034704-00153 | E-Z Flo Cyprex 4 Dust
034704-00161 | Clean Crop Lime-Sulfur Solution
034704-00206 | Clean Crop 1/2 % Thiabendazole Potato Seed Piece Treater
034704-00210 | Clean Crop Betasan 3.6G
034704-00249 | Clean Crop Oftanol 1.5G
034704-00291 | Hopkins Malathion 25% W.P.
034704-00295 | Hopkins Vegetation Killer
034704-00321 | Niagara Lime Sulphur Solution Fungicide-Insecticide
034704-00360 | Stik
034704-00392 | Clean Crop Par F 60 Soluble Oil
034704-00423 | Dursban 2 Coated Granules
034704-00429 | Liqui-Stik 200
034704-00448 | Clean Crop Dursban 1G Insecticide
034704-00490 | Atrazine 80WP
034704-00516 | Thiosulfan 3 EC
034704-00540 | De-Fend W-25 Insecticide
034704-00546 | Clean Crop Dibrom 8 EC
034704-00577 | Hopkins Streptomycin 17
034704-00607 | Clean Crop Dpd Ester Brush Killer
034704-00616 | Clean Crop N 1% Fly & Mosquito Spray
034704-00628 | Naa 1-Naphthalene Acetic Acid
034704-00629 | 1-Napthalene Acetic Acid Sodium Salt
034704-00645 | Unitox Granules
034704-00653 | Captan Seed Treater with Lindane
034704-00658 | Lindane 25 Planter Box Seed Treater
034704-00662 | Thiram 35 + Moly-Lube Planter Box Seed Treater
034704-00674 | Lindane 25 EC F Dyed Seed Treater
034704-00684 | Clean Crop Metam-Sodium 42% Technical
034704-00693 | Clean Crop Chlorpyrifos 50WP Seed Treater
034704-00696 | Clean Crop Tobacco Sucker Control
034704-00698 | Copper Hydroxide 4.5l
034704-00707 | Carbaryl 99% Technical
034704-00712 | Rampart 10-G Soil and Systemic Insecticide
034704-00737 | Maneb Lindane Seed Protectant
034704-00739 | Maneb Plus
034704-00740 | Maneb 4 Flowable
034704-00744 | Clean Crop Man-Z 300 Dyed Flowable Seed Protectant
034704-00747 | Moyer CU ZN
034704-00749 | Clean Crop Malathion 2 Home Lawn and Garden Spray
034704-00750 | Clean Crop Benefin Weed & Feed
034704-00751 | Benefin 122 Plus Fertilizer
034704-00754 | Clean Crop Prometon 2.5% Liquid
034704-00756 | Transplant Starter
034704-00757 | Lawn Weed Killer
034704-00763 | Tree Spray Oil
034704-00764 | Clean Crop Msma 1-L Turf Herbicide
034704-00784 | Atrazine Technical
034704-00788 | Dimethoate Technical
034704-00789 | Liquid Edger - 4 Way
034704-00793 | Grass & Weed Killer - 4 Way
034704-00826 | Chlorpyrifos Technical
034810-00002 | Super Wex-San
034810-00003 | Wex-San-M
034810-00030 | Broad-Cide I
035054-00002 | Term-Out
035138-00078 | Aero General Purpose Insecticide
035488-20203 | Doc Edmonds Roach Powder
035512-00036 | Turf Pride with 0.67% Dursban
035896-00002 | Wood-Last Conc. Wood Preserv. Aq.50% Sol.CCA-Type A
036029-00011 | Oat Bait for Pocket Gophers II
036232-00002 | R and C Spray III
036272-00021 | Mystic Home Pest Control
037657-00001 | J & B Pool Supply
039039-00002 | Max-Con Insecticide Ear Tags
039272-00010 | Wepak Mint Disinfectant
039412-00001 | Team 218 Swimming Pool Algaecide
039815-00002 | Hagen Bird Guard
040184-00001 | Argenton Bacteriostatic Water Treatment Unit
040536-00001 | Narco Nar-Cide
041138-00004 | Neutralle Swak II Insecticide
041837-20001 | Blu-Clor Sodium Hypochlorite Solution
041988-00001 | Snail-A-Cide
041988-00002 | Algae-A-Way
041997-20003 | Dietz Sanitizer for Swimming Pool Chlorination and Sanitizin
042177-00003 | Olympic Algaecide
042177-00007 | Olympic Concentrated Algaecide 40X
042177-00012 | Jack Frost Winter Algaecide 40
042177-00013 | Jack Frost Winter Guard Plus
042177-00014 | Olympic LTM
042177-00015 | Olympic Power Shock
042177-00019 | Olympic Algaecide
042177-00020 | Jack Frost Winter Algaecide
042177-00030 | Jack Frost Winter Prep
042177-00031 | Jack Frost Winter Guard
042177-00034 | Olympic Algaecide 10
042177-00038 | Olympic Poly Algaecide 50
042177-00045 | Olympic Spa Algaecide
042177-00049 | Jack Frost Winter Shock
042177-00051 | Jack Frost Winter Algaecide 20
042177-00054 | Olympic Spa Shock
042177-00055 | Olympic Spa Litho-Chlor
042177-00058 | Olympic Power Shock Plus
042177-00060 | E-Z Clor Big Tabs
042177-00065 | Tri-Chlor Slow Sticks
042177-00070 | E.z Clor Econocide
042233-00001 | Sodium Hypochlorite Solution
042446-00004 | A-7 Microbiocide
042750-00017 | Visko-Rhap Low Volatile Ester 2D Herbicide for Ground Applic
042750-00018 | Visko Rhap Low Volatile 2 DP
043512-20203 | Drop Dead Roach Killer
043576-00003 | Flea & Tick Powder
043576-00004 | Pet Protector
043576-00007 | Flea & Tick Killer Shampoo
043602-00004 | Fighter Bomber X-Tra Fly and Mosquito Insecticide
043602-00020 | Fighter Bomber Triple Fly and Mosquito Insecticide
043602-00021 | MPC-TOX
043994-00009 | Sanitizer 200-Z
044538-00002 | Citation Flea and Tick Shampoo
044811-00005 | Microbiocide 23-L
045631-00020 | Sanova Base (31%)
046183-00014 | D-S Liquid Cleaner, Sanitizer and Disinfectant
046193-00010 | Trifluralin 4EC Herbicide
046207-00005 | Activ-Ox 20
046260-00037 | Jobe's Indoor Plant Insect Spray
046519-00001 | D125 AG-10
046620-00003 | Requat Antimicrobial Agent
046923-00002 | Old Bridge Basic Copper Sulfate
047006-00005 | Orlik Dursban Granules
047033-00006 | S-303-L
047033-00007 | S 103P Sodium-Dichloro-S-Triazinetrione
047033-00008 | S 102P Trichloro-S-Triazinetrione
047319-00001 | Sevana Bird Repellent
047319-00004 | Agrigard Insect Repellent
047550-00003 | Elite Pyrethrins Flea and Tick Dip
047634-00001 | TC 160
047651-00006 | House Plant Insect Spray
048142-00003 | Nordox 75
048211-20004 | Chlor 525
048226-20003 | Chemical Pools Liquid-Shock
048668-00010 | PPP Perma-Dip Flea & Tick Dip Solution
049396-00001 | A-100
049396-00005 | A-300
049403-00015 | Nipacide Cr
049403-00031 | Bioban Gk Antimicrobial Agent
049614-00001 | K-San
050397-00001 | Liquefied Chlorine Gas Under Pressure
050534-00024 | Technical Daconil 2787 Fungicide
050534-00035 | Chlorothalonil Flowable 3
050534-00220 | Bravo Weather Stik ZN
050534-00221 | Daconil Weather Stik ZN
050675-00009 | G B M - Rope (grape Berry Moth Pheromone)
050956-00005 | Sask-Chlor Calcium Hypochlorite 70%
051032-00014 | Micro-Sul Dusting Sulfur O
051267-00001 | Bio-Clean
051319-00001 | 6-(furfurylamino) Purine Technical Grade
051319-00002 | Gibberellic Acid (ga3) 92% Technical Grade
051422-00003 | Black Algaecide
051877-00001 | Carbon Dioxide
052636-00001 | All Clear!!! Root Destroyer
052991-00007 | Bedoukian Cis-11-Tetradecenyl Acetate Technical Pheromone
053281-00004 | SCS 9mm
053892-00009 | Spa Granules
054292-00002 | Kafko Waterbed Conditioner
054698-00001 | FX-3 Root Killer
054705-00004 | Monterey “7” Carbaryl Insecticide
055501-00003 | The Recipe
055638-00016 | AG-10 Biofungicide
055638-00029 | Aspire Biofungicide
055638-00047 | Mattch Bioinsecticide
055638-00048 | MVP II Bioinsecticide
055710-00001 | QC-4125
055710-00002 | QC - 4127
056138-20001 | Safe-Guard Sodium Hypochlorite Solution
056194-00001 | Insectaside D.E.
056194-00004 | Insect-Aside P.p.d. Multipurpose Insecticide
056437-00001 | Yea! Poly-D-Glucosamine Solution
056485-00004 | Activ-Ox 20
056575-00012 | Deet Insect Repellent 20
056625-00002 | Blizzard System Liquid Nitrogen
056625-00003 | Power Plant Insecticide
056887-00001 | Cajun Roach Spray
056887-00002 | Cajun Wasp & Hornet Killer
057091-00014 | Biocare 90
057135-00001 | Chlorine Gas
057146-00002 | Wc 630
057607-00001 | Quad Algaequell
057787-00028 | Proteam Polyquat Algaecide 60
058369-00001 | Nip It In the Bud Natural Insect Repellent
058369-00003 | Fuzzie Buddie Shampoo for Pets with Pure Eucalyptus Oil
058369-00004 | R.I P. Ant and Roach Insecticide with Repellent
058616-00002 | PCT 3025
058866-00011 | Cinnacure P1005
059151-20002 | Nuchem Cf-167
059657-00001 | Technical Ethylene
059893-00003 | Coustic Glo Ceiling Cleaner Sanitizer C1
060061-00082 | Timbertreat 4wt Insecticide Wood Treatment Concentrate
060166-00001 | Chlorine Liquified Gas Under Pressure
061202-00002 | Triclopyr-EZ-Ject
061409-00002 | Hi-Chlor
061428-00001 | Water Preserver Concentrate
061468-00005 | Coal Tar Creosote (general Application)
062190-00019 | Arch BA
062190-00020 | Arch BX
062207-00005 | Fox-Chlor Plus
062207-00006 | Fox-Chlor
062331-00001 | Earthfire Vaporizing Fluid
062331-00002 | Earthfire Vaporizing Aerosol
062896-00001 | Zip Strip
063824-00003 | LTM-San Liquid Sanitizer
063963-00001 | Ethylene
064077-00001 | Barncl-X Biocide
064137-00003 | Mycostop Biofungicide for Repackaging Only
064321-00004 | Bio Kill Flora Brand Insecticide
064321-00005 | Bio Kill Brand Insecticide Aerosol
064328-00001 | Advance-Lf
064454-00001 | CKR Chlorine Liquefied Gas
064881-00005 | AEM 5772 Antimicrobial Mup
065092-00001 | ZE Lin Chen Chalk
065151-00002 | Bactericide 2
065170-00001 | Sodium Chlorate
065233-00001 | Treo SPF 15
065233-00006 | Treo SPF 30
065233-00011 | Primavera Botanical Bug-Repelling Spray
065233-00012 | Primavera Outdoor Protection Gel for Kids SPF 27
065458-00002 | Plato Industries' Insecticide Chip
065458-00003 | Bactec Bt 16 Biological Insecticide
065782-00001 | Liquefied Chlorine Gas Under Pressure
065901-00001 | Vitalix Control Tub
066222-00004 | Pyrinex Chlorpyrifos 2.3
066222-00005 | Bonide Lawn and Ornamental Insecticide W/dursban* 2e
066222-00006 | Pyrinex Chlorpyrifos 2E Insecticide
067064-00003 | Outdoor Animal Repellent
067197-00007 | Perma-Guard Kleen Bin D-20
067360-00002 | Intercide T-O Microbiostat
067425-00013 | Ecopac AR
067427-00001 | Flea Tech Home Treatment
067496-00001 | BK2Z Insecticide
067760-00038 | Parathion 8 EC.
067760-00039 | Cheminova Ethyl Methyl Parathion 6-3 EC
067813-00002 | Dow Liquid Disinfectant Formulation 3A
067869-00029 | N-2003 Antimicrobial
067959-00003 | Trilin 5
067959-00006 | Trilin WF .74G
067959-00007 | Trilin 5G
068146-00003 | Termafume
068223-00001 | Ethylene Compressed Plant Growth Regulator
068477-00001 | Nimby
068539-00001 | F-Stop Biological Fungicide Concentrate
068539-00002 | F-Stop Biological Fungicide Seed Protection
068543-00027 | Bengal Mosquito Repellent
068563-00001 | Pepper Treat Wild Bird Seed
068563-00002 | Seed Saver
068708-00010 | Tekstim Ec9555a
069151-00003 | Steritech DD-20
069151-00004 | Steritech BD-20 MUP
069261-00002 | Diasource Diatomaceous Earth Crawling Insect Killer
069266-00001 | Insectacease
069470-00025 | Thrifty Granular
069632-00001 | Nasa/Emu Bacteriostatic
069632-00003 | Unibed (URC 90220)
069632-00004 | Nasa/space Shuttle Mcv Bacteriostatic Cartridge
069632-00005 | Ion Exchange Bed URC 90116
069681-00011 | Clor Mor Trichlor Cartridge
069718-00001 | Rambal Pynamin Forte 60 Mosquito Mat
069840-00001 | Blood Blotter
069845-00001 | Tide-GA3 Tech.92%
069987-00002 | PY-T-20
070051-00005 | Margosan-O Botanical Insecticide Concentrate
070051-00012 | Neemgard
070051-00022 | Azatin-EC
070051-00026 | Azatin Technical 20%
070051-00032 | Technical Pheromone Z-11
070051-00033 | Phillips 66 Technical Pheromone Gossyplure
070051-00036 | Technical Pheromone E/Z-4-TDA
070051-00039 | Biosys Frustrate Pbw Bands
070051-00049 | Technical CGA-269941
070051-00054 | Thuricide R Hp 1.5 B* Dust Base
070051-00056 | Thuricide(r) 32LV
070051-00062 | Thuricide Wettable Powder
070051-00063 | Javelin ECB Granules
070051-00081 | Raven Technical Powder Bioinsecticide
070051-00088 | Lepinox G Bioinsecticide
070051-00092 | Lepinox XL WDG Insecticide
070051-00093 | Condor WDG
070072-00001 | TFA Super-Kill Fire Ant Exterminator
070160-00001 | Insect Control
070160-00004 | Insect Control Concentrate
070241-00001 | Cut Germicidal
070271-20002 | Lass0 10% Sodium Hypochlorite Solution
070464-00001 | Elexa
070506-00026 | Devrinol 50-WP Selective Herbicide
070506-00029 | Devrinol 50WP Ornamental Herbicide
070506-00030 | Devrinol 10-G Ornamental Selective Herbicide
070506-00032 | Devrinol 5-G Ornamental Selective Herbicide
070529-00001 | Chlorine Gas
070529-00002 | Aqua Chlor Chlorinating Solution
070529-00003 | Aqua Chlor Sodium Hypochlorite 12.5%
070549-20001 | Sodium Hypochlorite Solution
070880-00001 | PT807-HCL (manufacturing Use Product)
070880-00002 | Ecolyst
070907-00003 | Pilot 4E-SG
070968-00001 | Horsearound Horse Clothing Spray
071413-00001 | Chlorine
071683-00002 | Exile Ll 3.3
071770-00005 | Eko Orange
071770-00006 | Eko Blue
071906-00001 | Peroxate Precursor
072061-00001 | PF-1025 Dormant-Summer Oil
072167-00026 | Chlorothalonil Technical
072408-00001 | Micron Technical Sulfur
072592-00001 | Titan 2-2
072592-00002 | Titan 4 - 4
072744-00001 | Energy Plus
072827-00001 | RS21
073017-20007 | Gen Chlor 150 M
073020-00001 | Copper Sulfate Pentahydrate Manufacturing Use
073020-00002 | Copper Sulfate Pentahydrate
073797-00001 | Focus Brands Disinfecting Wipes
073825-00005 | Ecozap Dust Insecticide
073876-00002 | Fite Bite 100
074126-00001 | EPTC Technical
074210-00003 | Sanibac 386
074299-20002 | Chlorinating Solution
074341-00001 | Excel SF Non-Drip Ant Bait
074437-00001 | Grapple Flea Powder
074468-00001 | Proactive Permethrin Termiticide/Insecticide
074500-00001 | A-D Tabs
074517-00003 | Zydox AD-20 MUP
074530-00006 | Glyphosate Technical
074530-00007 | Molinate Technical
074598-00001 | Magic Tablecloth
074602-00001 | Verox-25
074602-00002 | Verox-5HM
074602-00003 | Verox-8
074815-00002 | Aquafit
075023-00001 | Synper(r) 30-30-ULV
075023-00002 | Synper 31-66-ULV
075031-00001 | Nicotine Smoke Generator
075082-00001 | Super Di-All Mildewcide
075082-00002 | Di All Paint Insecticide
075147-00001 | Clopyr-D
075147-00002 | Clopyralid Brush
075147-00006 | Ag Value Clopyralid Ivm Specialty Herbicide
075480-00001 | Megacide(r)
075483-00001 | Amsolv Amcide 5702
075483-00002 | Amsolv Amcide 5708
075483-00003 | CWT-325 Algaecide & Microbicide
075483-00004 | Amsolv Amcide 5711
075483-00005 | CWT-300
075764-00001 | Personal Mosquito Repeller
075844-00001 | SBP-2001
079529-00001 | Snarol Snail & Slug Killer Pellets
079529-00002 | Snarol Snail & Slug Killer Meal
079529-00003 | Black Flag House and Garden Insect Killer
079529-00005 | Black Flag Flea + Tick Killer Rug & Room Spray
079529-00006 | Black Flag Tomato & Vegetable Fogger
079529-00007 | Antrol Ant Killer-Formula II
079529-00008 | Black Flag Rug De-Bug
079529-00010 | Black Flag Pet Spray Formula I
079529-00012 | Black Flag Wasp-Bee-Hornet Killer
079529-00013 | Black Flag Roach Ender Spray
079529-00014 | Holiday Ant and Roach Killer Spray
079529-00015 | Black Flag Fogger IV
079529-00016 | Black Flag Fatal Attraction
079529-00017 | Cai Mothproofer Spray
079529-00018 | Black Flag Ant & Roach Killer Formula B
079529-00019 | Black Flag Ant Killing System I
079529-00020 | Black Flag Ant and Roach Killer - Formula C.
079529-00021 | Intrepid
079529-00022 | Iron
079529-00023 | Igloo
079529-00024 | Icarus
079529-00025 | Black Flag Flea Killer V
079529-00026 | Initial
079529-00027 | Infinity
079705-00001 | Microfree Brand T 558
079705-00002 | Microfree Brand Z 200
080098-00001 | Power Chem

IV. Public Docket

Complete lists of registrations canceled for non-payment of the maintenance fee will also be available for reference during normal business hours in the OPP Public Docket, Room 119, Crystal Mall 2, 1921 Jefferson Davis Highway South, Arlington VA, and at each EPA Regional Office. Product-specific status inquiries may be made by telephone by calling toll-free 1-800-444-7255.

List of Subjects

Environmental protection, Pesticides and pest, Fees.

Dated: October 14, 2004.
James Jones,
Director, Office of Pesticide Programs.

[FR Doc. 04-23941 Filed 10-26-04; 8:45 a.m.]

BILLING CODE 6560-50-S